DEPARTMENT OF TRANSPORTATION

Federal Aviation Administration

14 CFR Part 97

[Docket No. 30844; Amdt. No. 3480 ]

Standard Instrument Approach Procedures, and Takeoff Minimums and Obstacle Departure Procedures; Miscellaneous Amendments

AGENCY: Federal Aviation Administration (FAA), DOT.

ACTION: Final rule.

SUMMARY: This rule establishes, amends, suspends, or revokes Standard Instrument Approach Procedures (SIAPs) and associated Takeoff Minimums and Obstacle Departure Procedures for operations at certain airports. These regulatory actions are needed because of the adoption of new or revised criteria, or because of changes occurring in the National Airspace System, such as the commissioning of new navigational facilities, adding new obstacles, or changing air traffic requirements. These changes are designed to provide safe and efficient use of the navigable airspace and to promote safe flight operations under instrument flight rules at the affected airports.

DATES: This rule is effective June 5, 2012. The compliance date for each SIAP, associated Takeoff Minimums, and ODP is specified in the amendatory provisions.

The incorporation by reference of certain publications listed in the regulations is approved by the Director of the Federal Register as of June 5, 2012.

ADDRESSES: Availability of matters incorporated by reference in the amendment is as follows:

For Examination—

1. FAA Rules Docket, FAA Headquarters Building, 800 Independence Avenue SW., Washington, DC 20591;

2. The FAA Regional Office of the region in which the affected airport is located;

3. The National Flight Procedures Office, 6500 South MacArthur Blvd., Oklahoma City, OK 73169 or

4. The National Archives and Records Administration (NARA). For information on the availability of this material at NARA, call 202-741-6030, or go to: http://www.archives.gov/federal_register/code_of_federal_regulations/ibr_locations.html.

Availability—All SIAPs and Takeoff Minimums and ODPs are available online free of charge. Visit http://www.nfdc.faa.gov to register. Additionally, individual SIAP and Takeoff Minimums and ODP copies may be obtained from:

1. FAA Public Inquiry Center (APA-200), FAA Headquarters Building, 800 Independence Avenue SW., Washington, DC 20591; or

2. The FAA Regional Office of the region in which the affected airport is located.

FOR FURTHER INFORMATION CONTACT: Richard A. Dunham III, Flight Procedure Standards Branch (AFS-420), Flight Technologies and Programs Divisions, Flight Standards Service, Federal Aviation Administration, Mike Monroney Aeronautical Center, 6500 South MacArthur Blvd., Oklahoma City, OK 73169 (Mail Address: P.O. Box 25082, Oklahoma City, OK 73125) Telephone: (405) 954-4164.

SUPPLEMENTARY INFORMATION: This rule amends Title 14 of the Code of Federal Regulations, Part 97 (14 CFR part 97), by establishing, amending, suspending, or revoking SIAPS, Takeoff Minimums and/or ODPS. The complete regulators description of each SIAP and its associated Takeoff Minimums or ODP for an identified airport is listed on FAA form documents which are incorporated by reference in this amendment under 5 U.S.C. 552(a), 1 CFR part 51, and 14 CFR 97.20. The applicable FAA Forms are FAA Forms 8260-3, 8260-4, 8260-5, 8260-15A, and 8260-15B when required by an entry on 8260-15A.

The large number of SIAPs, Takeoff Minimums and ODPs, in addition to their complex nature and the need for a special format make publication in the Federal Register expensive and impractical. Furthermore, airmen do not use the regulatory text of the SIAPs, Takeoff Minimums or ODPs, but instead refer to their depiction on charts printed by publishers of aeronautical materials. The advantages of incorporation by reference are realized and publication of the complete description of each SIAP, Takeoff Minimums and ODP listed on FAA forms is unnecessary. This amendment provides the affected CFR sections and specifies the types of SIAPs and the effective dates of the, associated Takeoff Minimums and ODPs. This amendment also identifies the airport and its location, the procedure, and the amendment number.

The Rule

This amendment to 14 CFR part 97 is effective upon publication of each separate SIAP, Takeoff Minimums and ODP as contained in the transmittal. Some SIAP and Takeoff Minimums and textual ODP amendments may have been issued previously by the FAA in a Flight Data Center (FDC) Notice to Airmen (NOTAM) as an emergency action of immediate flight safety relating directly to published aeronautical charts. The circumstances which created the need for some SIAP and Takeoff Minimums and ODP amendments may require making them effective in less than 30 days. For the remaining SIAPS and Takeoff Minimums and ODPS, an effective date at least 30 days after publication is provided.

Further, the SIAPs and Takeoff Minimums and ODPS contained in this amendment are based on the criteria contained in the U.S. Standard for Terminal Instrument Procedures (TERPS). In developing these SIAPS and Takeoff Minimums and ODPs, the TERPS criteria were applied to the conditions existing or anticipated at the affected airports. Because of the close and immediate relationship between these SIAPs, Takeoff Minimums and ODPs, and safety in air commerce, I find that notice and public procedures before adopting these SIAPS, Takeoff Minimums and ODPs are impracticable and contrary to the public interest and, where applicable, that good cause exists for making some SIAPs effective in less than 30 days.

Conclusion

The FAA has determined that this regulation only involves an established body of technical regulations for which frequent and routine amendments are necessary to keep them operationally current. It, therefore—(1) Is not a “significant regulatory action” under Executive Order 12866; (2) is not a “significant rule ” under DOT Regulatory Policies and Procedures (44 FR 11034; February 26,1979) ; and (3) does not warrant preparation of a regulatory evaluation as the anticipated impact is so minimal. For the same reason, the FAA certifies that this amendment will not have a significant economic impact on a substantial number of small entities under the criteria of the Regulatory Flexibility Act.

List of Subjects in 14 CFR part 97:

Air traffic control, Airports, Incorporation by reference, and Navigation (air).

Issued in Washington, DC, on May 25, 2012.
John Duncan,
Deputy Director, Flight Standards Service.

Adoption of the Amendment

Accordingly, pursuant to the authority delegated to me, Title 14, Code of Federal Regulations, Part 97 (14 CFR part 97) is amended by establishing, amending, suspending, or revoking Standard Instrument Approach Procedures and/or Takeoff Minimums and/or Obstacle Departure Procedures effective at 0902 UTC on the dates specified, as follows:

PART 97—STANDARD INSTRUMENT APPROACH PROCEDURES

1. The authority citation for part 97 continues to read as follows:

Authority: 49 U.S.C. 106(g), 40103, 40106, 40113, 40114, 40120, 44502, 44514, 44701, 44719, 44721-44722.

2. Part 97 is amended to read as follows:

Effective 28 June 2012

Quakertown, PA, Quakertown, Takeoff Minimums and Obstacle DP, Amdt 1

Effective 26 July 2012

Bethel, AK, Bethel, ILS OR LOC/DME Z RWY 19R, Amdt 7A

Fairbanks, AK, Fairbanks Intl, ILS OR LOC RWY 2L, ILS RWY 2L (SA CAT I), ILS RWY 2L (CAT II), ILS RWY 2L (CAT III), Amdt 9

Auburn, AL, Auburn University Rgnl, ILS OR LOC RWY 36, Amdt 2

Auburn, AL, Auburn University Rgnl, RNAV (GPS) RWY 11, Amdt 1

Auburn, AL, Auburn University Rgnl, RNAV (GPS) RWY 18, Amdt 1

Auburn, AL, Auburn University Rgnl, RNAV (GPS) RWY 29, Amdt 1

Auburn, AL, Auburn University Rgnl, RNAV (GPS) RWY 36, Amdt 2

Auburn, AL, Auburn University Rgnl, Takeoff Minimums and Obstacle DP, Amdt 1

Auburn, AL, Auburn University Rgnl, VOR RWY 29, Amdt 11

Auburn, AL, Auburn University Rgnl, VOR/DME-A, Amdt 8

Carlsbad, CA, Mc Clellan-Palomar, RNAV (GPS) Y RWY 24, Amdt 2

Carlsbad, CA, Mc Clellan-Palomar, RNAV (RNP) Z RWY 24, Orig-A

Crescent City, CA, Jack Mc Namara Field, GPS RWY 35, Orig, CANCELLED

Crescent City, CA, Jack Mc Namara Field, ILS OR LOC/DME RWY 11, Amdt 8

Crescent City, CA, Jack Mc Namara Field, RNAV (GPS) RWY 11, Amdt 1

Crescent City, CA, Jack Mc Namara Field, RNAV (GPS) RWY 35, Orig

Crescent City, CA, Jack Mc Namara Field, Takeoff Minimums and Obstacle DP, Amdt 1

Crescent City, CA, Jack Mc Namara Field, VOR RWY 11, Amdt 11

Crescent City, CA, Jack Mc Namara Field, VOR/DME RWY 11, Amdt 13

Crescent City, CA, Jack Mc Namara Field, VOR/DME RWY 35, Amdt 11

El Monte, CA, El Monte, Takeoff Minimums and Obstacle DP, Amdt 5

Rio Vista, CA, Rio Vista Muni, RNAV (GPS) RWY 25, Amdt 3

Rio Vista, CA, Rio Vista Muni, Takeoff Minimums and Obstacle DP, Amdt 1

Rio Vista, CA, Rio Vista Muni, VOR/DME-A, Amdt 2

Tracy, CA, Tracy Muni, NDB RWY 12, Amdt 1, CANCELLED

Washington, DC, Washington Dulles Intl, RNAV (RNP) Z RWY 1C, Orig-E

Sebastian, FL, Sebastian Muni, RNAV (GPS) RWY 4, Orig

Sebastian, FL, Sebastian Muni, RNAV (GPS) RWY 22, Orig

Sebastian, FL, Sebastian Muni, Takeoff Minimums and Obstacle DP, Orig

St Petersburg-Clearwater, FL, St Petersburg-Clearwater Intl, ILS OR LOC RWY 18L, ILS RWY 18L (SA CAT I), ILS RWY 18L (CAT II), Amdt 22

St Petersburg-Clearwater, FL, St Petersburg-Clearwater Intl, ILS OR LOC RWY 36R, Amdt 3

Reidsville, GA, Swinton Smith Fld at Reidsville Muni, NDB RWY 11, Amdt 8

Reidsville, GA, Swinton Smith Fld at Reidsville Muni, RNAV (GPS) RWY 11, Amdt 1

Reidsville, GA, Swinton Smith Fld at Reidsville Muni, Takeoff Minimums and Obstacle DP, Amdt 1

Lawrenceville, IL, Lawrenceville-Vincennes Intl, RNAV (GPS) RWY 9, Amdt 1

Lawrenceville, IL, Lawrenceville-Vincennes Intl, RNAV (GPS) RWY 18, Amdt 1

Lawrenceville, IL, Lawrenceville-Vincennes Intl, RNAV (GPS) RWY 27, Amdt 1

Lawrenceville, IL, Lawrenceville-Vincennes Intl, RNAV (GPS) RWY 36, Amdt 1

Lawrenceville, IL, Lawrenceville-Vincennes Intl, VOR RWY 27, Amdt 7B, CANCELLED

Alexandria, IN, Alexandria, Takeoff Minimums and Obstacle DP, Orig

Connersville, IN, Mettel Field, ILS OR LOC RWY 18, Orig-B

Connersville, IN, Mettel Field, RNAV (GPS) RWY 36, Amdt 2

Hazard, KY, Wendell H Ford, LOC/DME RWY 14, Orig-A

Hazard, KY, Wendell H Ford, RNAV (GPS) RWY 14, Amdt 1A

Hazard, KY, Wendell H Ford, RNAV (GPS) RWY 32, Orig-A

Hazard, KY, Wendell H Ford, VOR/DME RWY 14, Amdt 1B

Lake Charles, LA, Lake Charles Rgnl, ILS OR LOC RWY 15, Amdt 21

Lake Charles, LA, Lake Charles Rgnl, RNAV (GPS) RWY 15, Amdt 1

Lake Charles, LA, Lake Charles Rgnl, RNAV (GPS) RWY 33, Amdt 2

Augusta, ME, Augusta State, ILS OR LOC RWY 17, Amdt 3

Augusta, ME, Augusta State, RNAV (GPS) RWY 8, Amdt 1

Cloquet, MN, Cloquet Carlton County, NDB RWY 17, Amdt 4

Cloquet, MN, Cloquet Carlton County, NDB RWY 35, Amdt 5

Cloquet, MN, Cloquet Carlton County, RNAV (GPS) RWY 17, Orig

Cloquet, MN, Cloquet Carlton County, RNAV (GPS) RWY 35, Amdt 1

Cloquet, MN, Cloquet Carlton County, Takeoff Minimums and Obstacle DP, Amdt 2

Preston, MN, Fillmore County, RNAV (GPS) RWY 11, Orig

Preston, MN, Fillmore County, RNAV (GPS) RWY 29, Amdt 1

Kansas City, MO, Charles B. Wheeler Downtown, ILS OR LOC RWY 3, Amdt 4

Kansas City, MO, Charles B. Wheeler Downtown, ILS OR LOC RWY 19, Amdt 23

Kansas City, MO, Charles B. Wheeler Downtown, NDB RWY 19, Amdt 18

Kansas City, MO, Charles B. Wheeler Downtown, RNAV (GPS) RWY 3, Amdt 2

Kansas City, MO, Charles B. Wheeler Downtown, VOR RWY 3, Amdt 19

Kansas City, MO, Charles B. Wheeler Downtown, VOR RWY 19, Amdt 20

Pender, NE, Pender Muni, RNAV (GPS) RWY 15, Orig

Pender, NE, Pender Muni, RNAV (GPS) RWY 33, Orig

Pender, NE, Pender Muni, Takeoff Minimums and Obstacle DP, Orig

Red Cloud, NE, Red Cloud Muni, RNAV (GPS) RWY 16, Orig

Red Cloud, NE, Red Cloud Muni, RNAV (GPS) RWY 34, Orig

East Hampton, NY, East Hampton, RNAV (GPS) X RWY 10, Orig

Pisceo, NY, Piseco, RNAV (GPS) RWY 4, Orig

Pisceo, NY, Piseco, Takeoff Minimums and Obstacle DP, Orig

Cleveland, OH, Cleveland-Hopkins Intl, ILS OR LOC RWY 28, Amdt 24A

Cleveland, OH, Cuyahoga County, ILS OR LOC RWY 24, Amdt 15

Cleveland, OH, Cuyahoga County, LOC/DME BC RWY 6, Amdt 12

Cleveland, OH, Cuyahoga County, RNAV (GPS) RWY 6, Amdt 1

Cleveland, OH, Cuyahoga County, RNAV (GPS) RWY 24, Amdt 1

Fostoria, OH, Fostoria Metropolitan, RNAV (GPS) RWY 9, Orig

Grants Pass, OR, Grants Pass, Takeoff Minimums and Obstacle DP, Amdt 1

Butler, PA, Butler County/K W Scholter Field, ILS OR LOC RWY 8, Amdt 8

Butler, PA, Butler County/K W Scholter Field, RNAV (GPS) RWY 8, Amdt 1

Butler, PA, Butler County/K W Scholter Field, RNAV (GPS) RWY 26, Amdt 1

Wilkes-Barre, PA, Wilkes-Barre Wyoming Valley, RNAV (GPS) RWY 7, Orig

Wilkes-Barre, PA, Wilkes-Barre Wyoming Valley, RNAV (GPS) RWY 25, Orig

Wilkes-Barre, PA, Wilkes-Barre Wyoming Valley, Takeoff Minimums and Obstacle DP, Orig

Beaufort, SC, Beaufort County, RNAV (GPS) RWY 7, Amdt 1A

Hilton Head Island, SC, Hilton Head, LOC/DME RWY 21, Amdt 5

Belle Fourche, SD, Belle Fourche Muni, RNAV (GPS) RWY 32, Amdt 1

Hot Springs, SD, Hot Springs Muni, Takeoff Minimums and Obstacle DP, Amdt 1

Pine Ridge, SD, Pine Ridge, Takeoff Minimums and Obstacle DP, Amdt 1

Alice, TX, Alice Intl, RNAV (GPS) RWY 13, Amdt 1

Alice, TX, Alice Intl, RNAV (GPS) RWY 31, Amdt 1D

Alpine, TX, Alpine-Casparis Muni, Takeoff Minimums and Obstacle DP, Amdt 5

Breckenridge, TX, Stephens County, GPS RWY 35, Orig, CANCELLED

Breckenridge, TX, Stephens County, RNAV (GPS) RWY 17, Orig

Breckenridge, TX, Stephens County, RNAV (GPS) RWY 35, Orig

Breckenridge, TX, Stephens County, Takeoff Minimums and Obstacle DP, Orig

Jacksonville, TX, Cherokee County, RNAV (GPS) RWY 14, Amdt 1

Jacksonville, TX, Cherokee County, RNAV (GPS) RWY 32, Orig

Midland, TX, Midland Airpark, RNAV (GPS) RWY 34, Orig

Odessa, TX, Odessa-Schlemeyer Field, Takeoff Minimums and Obstacle DP, Amdt 3

Marion/Wytheville, VA, Mountain Empire, Takeoff Minimums and Obstacle DP, Amdt 2

Moses Lake, WA, Grant Co Intl, RNAV (GPS) Y RWY 4, Amdt 1A

Moses Lake, WA, Grant Co Intl, RNAV (GPS) Y RWY 14L, Amdt 1A

Moses Lake, WA, Grant Co Intl, RNAV (GPS) Y RWY 22, Amdt 1A

Moses Lake, WA, Grant Co Intl, RNAV (GPS) Y RWY 32R, Amdt 3

Williamson, WV, Appalachian Rgnl, RNAV (GPS) RWY 8, Orig-A

Williamson, WV, Appalachian Rgnl, RNAV (GPS) RWY 26, Orig-A

Williamson, WV, Appalachian Rgnl, Takeoff Minimums and Obstacle DP, Orig-A

Cheyenne, WY, Cheyenne Rgnl/Jerry Olson Field, NDB RWY 27, Amdt 15

[FR Doc. 2012-13446 Filed 6-4-12; 8:45 am]

BILLING CODE 4910-13-P